DEPARTMENT OF EDUCATION

Implementation of Title I/II Program Initiatives; Extension of Public Comment Period; Correction

AGENCY: Department of Education.

ACTION: Correction notice.

SUMMARY: On October 1, 2013, the U.S. Department of Education published a 30-day comment period notice in the Federal Register (Page 60266) seeking public comment for an information collection entitled, “Implementation of Title I/II Program Initiatives,” Docket ID ED-2013-ICCD-0090. The comment period for this information collection request has been extended to November 8, 2013.

The Acting Director, Information Collection Clearance Division, Privacy, Information and Records Management Services, Office of Management, hereby issues a correction notice as required by the Paperwork Reduction Act of 1995.

Dated: October 29, 2013.
Tomakie Washington,
Acting Director, Information Collection Clearance Division, Privacy, Information and Records Management Services, Office of Management.

[FR Doc. 2013-26111 Filed 10-31-13; 8:45 am]

BILLING CODE 4000-01-P